ENVIRONMENTAL PROTECTION AGENCY

[Docket ID No. OAR-2002-0036; AD-FRL-7412-5]

National Emission Standards for Hazardous Air Pollutants: Revision of Area Source Category List Under Section 112(c)(3) and 112(k)(3)(B)(ii) of the Clean Air Act

AGENCY: Environmental Protection Agency (EPA).

ACTION: Notice of revisions to the area source category list under the Integrated Urban Air Toxics Strategy.

SUMMARY: This notice adds 23 area source categories of hazardous air pollutants (HAP) to the previous lists developed under the Integrated Urban Air Toxics Strategy (Strategy). With the addition of these categories, the requirement to identify and list area source categories representing at least 90 percent of the emissions of the 30 “listed” (or area source) HAP under section 112(c)(3) and 112(k)(3)(B)(ii) of the Clean Air Act (CAA) is fulfilled. The Strategy's area source category list constitutes an important part of EPA's agenda for regulating stationary sources of air topics emissions.

These revisions to the list of area sources have not been reflected in any previous notices and are being made without public comment on the Administrator's own motion. Such revisions are deemed by EPA to be without need for public comment based on the nature of the actions.

EFFECTIVE DATE: November 22, 2002.

ADDRESSES: The official public docket is the collection of materials that is available for public viewing at the EPA Docket Center, (EPA/DC) EPA West, Room B102, 1301 Constitution Ave., NW., Washington, DC.

FOR FURTHER INFORMATION CONTACT: Ms. Barbara B. Driscoll, Policy, Planning and Standards Group, Emission Standards Division (C439-04), EPA, Research Triangle, Park, North Carolina 27711, facsimile number (919) 541-0942 telephone number (919) 541-1051, electronic mail (e-mail): driscoll.barbara@epa.gov.

SUPPLEMENTARY INFORMATION: Docket. The EPA has established an official public docket for this action under the Docket ID No. OAR-2002-0036. The official public docket consists of the documents specifically referenced in this action, any public comments received and other information related to this action. Although a part of the official docket, the public docket does not include Confidential Business Information (CBI) or other information whose disclosure is restricted by statute. The EPA Docket Center Public Reading Room is open from 8:30 a.m. to 4:30 p.m., Monday through Friday, excluding legal holidays. The telephone number for the Reading Room is (202) 566-1744, and the telephone number for the Docket is (202) 566-1742. A reasonable fee may be charged for copying docket materials.

Electronic Access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in this document. Once in the system, select “search,” then key in the appropriate docket identification.

Worldwide Web (WWW). In addition to being available in the docket, an electronic copy of today's notice will also be available on the WWW through the Technology Transfer Network (TTN). Following signature, a copy of the notice will be posted on the TTN's policy and guidance page, http://www.epg.gov/ttn/oarpg. The TNN provides information and technology exchange in various areas of air pollution control. If more information regarding the TNN is needed, call the TNN HELP line at (919) 541-5384.

I. What Is the History of the Integrated Urban Air Toxics Strategy Area Source Category List?

The CAA includes two provisions, section 112(c)(3) and 112(k)(3)(B)(ii), that instruct EPA to identify and list area source categories accounting for at least 90 percent of the emissions of the 30 “listed” (or area source) HAP (64 FR 38706, July 19, 1999), and that are, or will be, subject to standards under section 112(d) of the CAA. For this effort, we have used urban area source information from the section 112(k) inventory, which represents a baseline year of 1990. In the July 1999 Strategy, we identified 16 area source categories that had already been listed for regulation under the CAA, and 13 area source categories that were being listed under section 112(c)(3) for the first time. These 29 area source categories are:

• Cyclic Crude and Intermediate Production

• Flexible Polyurethane Foam Fabrication Operations

• Hospital Sterilizers

• Industrial Inorganic Chemical Manufacturing

• Industrial Organic Chemical Manufacturing

• Mercury Cell Chlor-Alkali Plants

• Gasoline Distribution Stage 1

• Municipal Landfills

• Oil and Natural Gas Production

• Paint Stripping Operations

• Plastic Materials and Resins Manufacturing

• Publicly Owned Treatment Works

• Synthetic Rubber Manufacturing

• Chromic Acid Anodizing

• Commercial Sterilization Facilities

• Other Solid Waste Incinerators (Human/Animal Cremation)

• Decorative Chromium Electroplating

• Dry Cleaning Facilities

• Halogenated Solvent Cleaners

• Hard Chromium Electroplating

• Hazardous Waste Combustors

• Industrial Boilers

• Institutional/Commercial Boilers

• Medical Waste Incinerators

• Municipal Waste Combustors

• Open Burning Scrap Tires

• Portland Cement

• Secondary Lead Smelting

• Stationary Internal Combustion Engines.

Each of the first 13 area source categories above, which were listed for the first time in June 1999, contributed at least 15 percent of the total area source urban emissions for at least one of the 30 area source HAP. We also took credit for the percentage of emission contribution from the last 16 area source categories on the list above. Since then, we added Secondary Aluminum Production to our list of major and area source categories (66 FR 8220, January 30, 2001). On June 26, 2002, we listed an additional 18 area source categories:

• Acrylic Fibers/Modacrylic Fibers Production

• Plating and Polishing

• Agricultural Chemicals & Pesticides Manufacturing

• Autobody Refinishing Paint Shops

• Cadmium Refining & Cadmium Oxide Production

• Flexible Polyurethane Foam Production

• Iron Foundries

• Lead Acid Battery Manufacturing

• Miscellaneous Organic Chemical Manufacturing (MON)

• Pharmaceutical Production

• Polyvinyl Chloride & Copolymers Production

• Pressed and Blown Glass & Glassware Manufacturing

• Secondary Copper Smelting

• Secondary Nonferrous Metals

• Sewage Sludge Incineration

• Stainless and Nonstainless Steel Manufacturing Electric Arc Furnaces (EAF)

• Steel Foundries

• Wood Preserving.

The listing of all these categories, however, did not meet the requirement to list area sources representing 90 percent of the area source emissions of the 30 area source HAP. In the Strategy, we indicated that we would be adding additional area source categories as necessary to meet the 90 percent requirement and would complete our listing by 2003.

II. Why Is EPA Issuing This Notice?

Under the provisions of section 112(c)(3) and 112(k)(3)(B)(ii), this notice announces the addition of 23 area source categories to the list initially published on July 19, 1999 (64 FR 38721), amended on January 30, 2001 (66 FR 8220), and on June 26, 2002 (67 FR 43112). While this listing is again based on the section 112(k) inventory which represents urban area information for 1990, current information will be used for any type of regulatory development. Each of the source categories contributes a percentage of the total area source emissions for at least one of the 30 area source HAP and completes our requirement to address 90 percent of the emissions of each of the 30 area source HAP. The additional area source categories being listed pursuant to section 112(c)(3) and 112(k)(3)(B)(ii) are:

• Asphalt Processing and Asphalt Roofing Manufacturing

• Brick and Structural Clay Products Manufacturing

• Carbon Black Production

• Chemical Manufacturing: Chromium Compounds

• Chemical Preparations

• Clay Ceramics Manufacturing

• Industrial Machinery and Equipment: Finishing Operations

• Copper Foundries

• Electrical and Electronics Equipment: Finishing Operations

• Ferroalloys Production: Ferromanganese and Silicomanganese

• Fabricated Metal Products Manufacturing, not elsewhere classified (nec)

• Fabricated Plate Work (Boiler Shops)

• Fabricated Structural Metal Manufacturing

• Heating Equipment Manufacturing, Except Electric

• Inorganic Pigments Manufacturing

• Iron and Steel Forging

• Nonferrous Foundries, nec

• Paints and Allied Products Manufacturing

• Plastic Parts and Products (Surface Coating)

• Prepared Feeds Manufacturing

• Primary Copper Smelters

• Primary Metals Products Manufacturing

• Valves and Pipe Fittings Manufacturing

In addition to adding these area source categories, EPA is also revising the name of the area source category Cadmium Refining and Cadmium Oxide Production to Primary Nonferrous Metals—Zinc, Cadmium and Beryllium. This category is also being expanded to include these other operations: Primary Smelting and Refining of Zinc, and Primary Nonferrous Metals. Expanding this source category to include these additional operations is needed to meet the 90 percent requirement for several HAP. The name of the area source category Lead and Acid Battery Manufacturing is also changed to Lead Acid Battery Manufacturing.

In a recent notice, addressed in a separate Federal Register notice), the area source category Open Burning of Scrap Tires was removed from source categories included in the inventory analysis for section 112(c)(6) and 112(k). Consequently, that source category will no longer be a candidate for regulation under either section 112(c)(6) or 112(k). As a result, two area source categories: Asphalt Processing and Asphalt Roof Manufacturing, and Carbon Black Production were added to the section 112(k) list above to ensure that 90 percent of the emissions of the HAP, polycyclic organic matter, are addressed.

III. Administrative Requirements

Today's notice is not a rule; it is essentially an information-sharing activity which does not impose regulatory requirements or costs. Therefore, the requirements of Executive Order 13045 (Protection of Children from Environmental Health Risks and Safety Risks), Executive Order 13175 (Consultation and Coordination with Indian Tribal Governments), Executive Order 13132 (Federalism), Executive Order 13211 (Actions Concerning Regulations that Significantly Affect Energy Supply, Distribution, or Use), the Regulatory Flexibility Act, the National Technology Transfer and Advancement Act, and the Unfunded Mandates Reform Act do not apply to today's notice. Also, this notice does not contain any information collection requirements and, therefore, is not subject to the Paperwork Reduction Act, 44 U.S.C. 3501 et seq.

Under Executive Order 12866 (58 FR 51735, October 4, 1993), a regulatory action determined to be “significant” is subject to the Office of Management and Budget (OMB) review and the requirements of the Executive Order. The Executive Order defines “significant” regulatory action as one that is likely to lead to a rule that may either: (1) Have an annual effect on the economy of $100 million or more, or adversely affect a sector of the economy, productivity, competition, jobs, the environment, public health or safety, or State, local or tribal governments or communities; (2) create a serious inconsistency or otherwise interfere with an action take or planned by another agency; (3) materially alter the budgetary impact of entitlements, grants, user fees, or loan programs or the rights and obligations of recipients thereof; or (4) raise novel legal or policy issues arising out of legal mandates, the President's priorities, or the principles set forth in the Executive Order. The OMB has determined that this action is not significant under the terms of Executive Order 12866.

Dated: November 13, 2002.
Robert Brenner,
Acting Assistant Administrator for Air and Radiation.

[FR Doc. 02-29774 Filed 11-21-02; 8:45 am]

BILLING CODE 6560-50-M